NUCLEAR REGULATORY COMMISSION

[Docket Nos. 50-266 AND 50-301]

Nuclear Management Company, LLC Point Beach Nuclear Plant, Units 1 and 2; Notice of Issuance of Renewed Facility Operating License Nos. DPR-24 and DPR-27 for an Additional 20-Year Period

Notice is hereby given that the U.S. Nuclear Regulatory Commission (the Commission) has issued Renewed Facility Operating License Nos. DPR-24 and DPR-27 to Nuclear Management Company, LLC (licensee), the operator of the Point Beach Nuclear Plant (PBNP), Units 1 and 2. Renewed Facility Operating License No. DPR-24 authorizes operation of PBNP, Unit 1, by the licensee at reactor core power levels not in excess of 1540 megawatts thermal (516 megawatts electric), in accordance with the provisions of the PBNP renewed license and its technical specifications. Renewed Facility Operating License No. DPR-27 authorizes operation of PBNP, Unit 2, by the licensee at reactor core power levels not in excess of 1540 megawatts thermal (516 megawatts electric), in accordance with the provisions of the PBNP renewed license and its Technical Specifications.

PBNP Units 1 and 2 are pressurized water reactors located in Two Rivers, Wisconsin. The licensee's application for the renewed licenses complied with the standards and requirements of the Atomic Energy Act of 1954, as amended (the Act), and the Commission's regulations. As required by the Act and the Commission's regulations in 10 CFR Chapter 1, the Commission has made appropriate findings, which are set forth in each license. Prior public notice of the action involving the proposed issuance of the renewed licenses and of an opportunity for a hearing regarding the proposed issuance of the renewed licenses was published in the Federal Register on April 13, 2004 (69 FR 19559).

For further details with respect to this action, see (1) Nuclear Management Company, LLC's license renewal application for Point Beach Nuclear Plant, Units 1 and 2, dated February 25, 2004, as supplemented by letters dated through August 23, 2005; (2) the Commission's safety evaluation report (NUREG-1839), published in December 2005; and (3) the Commission's final environmental impact statement (NUREG-1437, Supplement 23), published in August 2005. These documents are available at the NRC Public Document Room, One White Flint North, 11555 Rockville Pike, Rockville, Maryland 20852, and can be viewed from the NRC Public Electronic Reading Room at http://www.nrc.gov/reading-rm/adams.html.

Copies of Renewed Facility Operating License Nos. DPR-24 and DPR-27 may be obtained by writing to the U.S. Nuclear Regulatory Commission, Washington, DC 20555-0001, Attention: Director, Division of License Renewal. Copies of the Point Beach Nuclear Plant, Units 1 and 2 safety evaluation report (NUREG-1839) and the final environmental impact statement (NUREG-1437, Supplement 23) may be purchased from the National Technical Information Service, U.S. Department of Commerce, Springfield, Virginia 22161 (http://www.ntis.gov), 703-605-6000, or Attention: Superintendent of Documents, U.S. Government Printing Office, P.O. Box 371954 Pittsburgh, Pennsylvania, 15250-7954 (http://www.gpoaccess.gov), 202-512-1800. All orders should clearly identify the NRC publication number and the requestors Government Printing Office deposit account number or a VISA or MasterCard number and expiration date.

Dated at Rockville, Maryland, this 22nd day of December 2005.
For The Nuclear Regulatory Commission.
Pao-Tsin Kuo,
Deputy Director, Division of License Renewal, Office of Nuclear Reactor Regulation.

[FR Doc. E5-8061 Filed 12-28-05; 8:45 am]

BILLING CODE 7590-01-P